FEDERAL COMMUNICATIONS COMMISSION

47 CFR Part 73

[DA 04-717, MB Docket No. 02-260, RM-10502, 10833]

Radio Broadcasting Services; Freer, Hebbronville, and Orange Grove, TX

AGENCY: Federal Communications Commission.

ACTION: Final rule.

SUMMARY: This document grants a counterproposal filed by La Nueva Cadena Radio Luz, Inc., licensee of Station KEKO(FM), Hebbronville, Texas by substituting Channel 269C2 for Channel 269A and reallotting Channel 269C2 from Hebbronville to Orange Grove, Texas, as its first local aural transmission service and modifying the Station KEKO(FM) license accordingly. Channel 269C2 can be allotted to Orange Grove, in compliance with the minimum distance separation requirement of the Commission's Rules, provided there is a site restriction 28.6 kilometers (17.8 miles) west of the community. The reference coordinates for Channel 269C2 at Orange Grove are 28-00-01 NL and 98-13-24 WL. This document also denies the Petition for Rulemaking filed by Linda Crawford, requesting the allotment of Channel 271A at Freer, Texas, as that community's third local aural transmission service.

DATES: Effective May 3, 2004.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 02-260 adopted March 17, 2004, and released March 19, 2004. The full text of this Commission decision is available for inspection and copying during normal business hours in the Commission's Reference Center 445 Twelfth Street, SW., Washington, DC 20554. The complete text of this decision may also be purchased from the Commission's duplicating contractor, Qualex International Portals II, 445 12th Street, SW., Room CY-B402, Washington, DC, 20554, telephone 202-863-2893, facsimile 202-863-2898, or via e-mail qualexint@aol.com.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Texas, is amended by removing Channel 269A at Hebbronville and by adding Orange Grove, Channel 269C2.

Federal Communications Commission.
John A. Karousos,
Assistant Chief, Audio Division, Media Bureau.

[FR Doc. 04-7368 Filed 3-31-04; 8:45 am]

BILLING CODE 6712-01-P